DEPARTMENT OF THE INTERIOR

National Park Service

Notice of Inventory Completion for Native American Human Remains and Associated Funerary Objects in the Possession of the Nevada State Museum, Carson City, NV

AGENCY: National Park Service, Interior.

ACTION: Notice.

Notice is hereby given in accordance with provisions of the Native American Graves Protection and Repatriation Act (NAGPRA), 43 CFR 10.9, of the completion of an inventory of human remains and associated funerary objects in the possession of the Nevada State Museum, Carson City, NV.

This notice is published as part of the National Park Service's administrative responsibilities under NAGPRA, 43 CFR 10.2 (c). The determinations within this notice are the sole responsibility of the museum, institution, or Federal agency that has control of these Native American human remains and associated funerary objects. The National Park Service is not responsible for the determinations within this notice.

A detailed assessment of the human remains was made by Nevada State Museum professional staff in consultation with State Historic Preservation Office staff and representatives of the Winnemucca Indian Colony of Nevada Council.

In 1997, human remains representing four individuals were recovered from a construction project on non-Federal land within the community of Winnemucca, NV. After consultation with the Winnemucca Indian Colony of Nevada Council, the remains were donated to the Nevada State Museum. No known individuals were identified. The 25 associated funerary objects include Euro-American textiles, shoes, buttons, and large and small glass beads.

Osteological evidence, archeological context, and the presence of glass trade beads indicate that the human remains are Native American. The Euro-American clothing dates the remains to the post-1840s. The location of Winnemucca, NV, is within the known historic territory of the Winnemucca Indian Colony of Nevada. Based on the historic evidence, oral history, and geographic location, the remains are determined to be affiliated with the Winnemucca Indian Colony of Nevada.

Based on the above-mentioned information, officials of the Nevada State Museum have determined that, pursuant to 43 CFR 10.2 (d)(1), the human remains listed above represent the physical remains of four individuals of Native American ancestry. Officials of the Nevada State Museum also have determined that, pursuant to 43 CFR 10.2 (d)(2), the 25 objects listed above are reasonably believed to have been placed with or near individual human remains at the time of death or later as part of the death rite or ceremony. Lastly, officials of the Nevada State Museum have determined that, pursuant to 43 CFR 10.2 (e), there is a relationship of shared group identity that can be reasonably traced between these Native American human remains and associated funerary objects and the Winnemucca Indian Colony of Nevada.

This notice has been sent to officials of the Winnemucca Indian Colony of Nevada. Representatives of any other Indian tribe that believes itself to be culturally affiliated with these human remains and associated funerary objects should contact Dr. Alanah Woody, Nevada Division of Museums and History NAGPRA Coordinator, 600 North Carson Street, Carson City, NV 89701, telephone (775) 687-4810, extension 229, before May 10, 2001. Repatriation of the human remains and associated funerary objects to the Winnemucca Indian Colony of Nevada may begin after that date if no additional claimants come forward.

Dated: March 26, 2001.
John Robbins,
Assistant Director, Cultural Resources Stewardship and Partnerships.

[FR Doc. 01-8702 Filed 4-9-01; 8:45 am]

BILLING CODE 4310-70-F